DEPARTMENT OF THE INTERIOR

National Park Service

Notice of Availability of Draft Fee Schedules and Guidance for Commercial Filming in Compliance with Public Law 106-206 To Apply in All Units of the National Park Service

AGENCY: National Park Service, Interior.

ACTION: Public notice.

SUMMARY: The National Park Service (NPS) has available for public review, the draft fee schedules and associated guidance for Filming and Photography Location Fees to be charged in all units of the National Park Service in accordance with Public Law 106-206. We hope to be shortly issuing our proposed regulations requesting public comments. In the meantime, we want to obtain public involvement as early as possible regarding our draft location fee schedule and guidance by issuing this notice now. Other Federal land management agencies may adopt any or all of the schedule(s) as they are finalized, however this notice only applies to the location fee schedules and associated guidance applicable to NPS.

Copies of the draft location fee schedules and guidance will be made available upon request by writing: National Park Service, Ranger Activity Division, 1849 C St., NW, Suite 7408, Washington, DC 20240, or by calling (202) 208-4874. The draft document is also available on the NPS website at the following URL: www.nps.gov/refdesk/DOrders

DATES: Public comments will be accepted on or before February 12, 2001.

ADDRESSES: Comments should be addressed to: Dick Young, Special Park Uses Program Manager, C/O Colonial NHP, P.O. Box 210, Yorktown, VA 23690, or via email at: Dicks_S._Young@nps.gov.

FOR FURTHER INFORMATION CONTACT: Dick Young at (757) 898-7846, or (757) 898-3400, ext. 2426.

Chris Andress,
Chief, Ranger Activities Division.

[FR Doc. 00-31913 Filed 12-13-00 8:45 am]

BILLING CODE 4310-70-M